DEPARTMENT OF LABOR

Occupational Safety and Health Administration

[Docket No. ICR-1218-0104(2000)]

Inorganic Arsenic; Extension of the Office of Management and Budget (OMB) Approval of Information Collection (Paperwork) Requirements

AGENCY: Occupational Safety and Health Administration (OSHA); Labor.

ACTION: Notice of an opportunity for public comment.

SUMMARY: OSHA solicits comments concerning the proposed reduction in, and extension of, the information collection requirements contained in the Inorganic arsenic standard (29 CFR 1910.1018).

REQUEST FOR COMMENT: The Agency is particularly interested in comments on the following issues:

• Whether the information collection requirements are necessary for the proper performance of the Agency's functions, including whether the information is useful;

• The accuracy of the Agency's estimate of the burden (time and costs) of the information collection requirements, including the validity of the methodology and assumptions used;

• The quality, utility, and clarity of the information collected; and

• Ways to minimize the burden on employers who must comply; for example, by using automated, electronic, mechanical, and other technological information collection and transmission techniques.

DATES: Submit written comments on or before March 27, 2000.

ADDRESSES: Submit written comments to the Docket Office, Docket No. ICR-1218-0104(2000), Occupational Safety and Health Administration, U.S. Department of Labor, Room N-2625, 200 Constitution Avenue, N.W., Washington, DC 20210; telephone: (202) 693-2350. Commenters may transmit written comments of 10 pages or less in length by facsimile to (202) 693-1648.

FOR FURTHER INFORMATION CONTACT: Nancy Dorris, Directorate of Policy, Occupational Safety and Health Administration, U.S. Department of Labor, Room N-3641, 200 Constitution Avenue, N.W., Washington, DC 20210; telephone: (202) 693-2444. A copy of the Agency's Information Collection Request (ICR) supporting the need for the information collection requirements in the Inorganic arsenic standard is available for inspection and copying in the Docket Office, or you may request a mailed copy by telephoning Nancy Dorris or Todd R. Owen at (202) 693-2444. For electronic copies of the ICR on the Inorganic arsenic standard, contact OSHA on the Internet at http://www.osha-slc.gov.

SUPPLEMENTARY INFORMATION:

I. Background

The Department of Labor, as part of its continuing effort to reduce paperwork and respondent burden, conducts a preclearance consultation program to provide the general public and Federal agencies with an opportunity to comment on proposed and continuing information collection requirements in accordance with the Paperwork Reduction Act of 1995 (PRA-95) (44 U.S.C. 3506(c)(2)(A)). This program ensures that information is in the desired format, reporting burden (time and costs) is minimal, collection instruments clearly understood, and OSHA's estimate of the information burden is correct. The Occupational Safety and Health Act of 1970 (the Act) authorizes information collection by employers as necessary or appropriate for enforcement of the Act or for developing information regarding the causes and prevention of occupational injuries, illnesses, and accidents (29 U.S.C. 657). In this regard, the information collection requirements in the Inorganic arsenic standard provide protection for employees from the adverse health effects associated with exposure to inorganic arsenic. The Inorganic arsenic standard requires employers to: Monitor employees' exposure to inorganic arsenic; monitor employee health; develop and maintain employee exposure-monitoring and medical records; notify local OSHA area office in writing of regulated areas, and changes to these areas; and provide employees with information about their exposures and health effects of exposure to inorganic arsenic.

II. Proposed Actions

OSHA proposes to extend the OMB approval for the collection of information (paperwork) contained in the Inorganic arsenic standard (29 CFR 1910.1018). OSHA will summarize the comments submitted in response to this notice, and will include this summary in the request to OMB to extend the approval of the information collection requirements contained in the Inorganic arsenic standard (29 CFR 1910.1018).

Type of Review: Extension of currently approved information collection requirements.

Title: Inorganic arsenic standard.

OMB Number: 1218-0104.

Affected Public: Business or other for-profit; Federal government; state, local or tribal government.

Number of Respondents: 42.

Frequency: On occasion.

Total Responses: 58,763.

Average Time per Response: Time per response ranges from 5 minutes to maintain records to 1.67 hours to complete a medical examination.

Estimated Total Burden Hours: 7,381 hours.

Estimated Cost (Operation and Maintenance): $1,142,802.

Authority and Signature

Charles N. Jeffress, Assistant Secretary of Labor for Occupational Safety and Health, directed the preparation of this notice. The authority for this notice is the Paperwork Reduction Act of 1995 (44 U.S.C. 3506) and Secretary of Labor's Order No. 6-96 (62 FR 111).

Signed at Washington, D.C. on January 19, 2000.
Charles N. Jeffress,
Assistant Secretary of Labor.

[FR Doc. 00-1722 Filed 1-24-00 8:45 am]

BILLING CODE 4510-26-M